DEPARTMENT OF ENERGY

Federal Energy Regulatory Commission

[Docket Nos. CP10-14-000; PF09-07-000]

Kern River Gas Transmission Company; Notice of Application

November 16, 2009.

Take notice that on November 2, 2009, Kern River Gas Transmission Company (Kern River), 2755 East Cottonwood Parkway, Suite 300, Salt Lake City, Utah 84121, filed in the above referenced docket an application pursuant to section 7(c) of the Natural Gas Act seeking authority to expand its system comprised of new facilities and modifications to existing facilities as described more fully herein (Apex Expansion). Specifically, Kern River requests: (1) Authorization to construct, own and operate the facilities needed to expand its year-round, firm transportation capacity from the receipt points in Lincoln County, Wyoming, to the Pecos delivery point in Clark County, Nevada, by approximately 266,000 dekatherms per day (Dth/d); (2) approval of regulatory asset/liability accounting for differences between book and regulatory depreciation resulting from use of Kern River's levelized rate design; (3) approval of incremental transportation rates and fuel factors; and (4) acceptance of the pro forma tariff sheets included in Exhibit P to the application, all as more fully set forth in the application. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

The Apex Expansion proposed facilities include: (1) Approximately 28 miles of 36-inch-diameter pipeline to be constructed in an unlooped portion of Kern River's existing mainline system across the Wasatch Mountains in northern Utah, in Morgan, Davis and Salt Lake counties, (2) three additional 16,000 ISO-rated horsepower (hp) compressor units to be installed at existing compressor stations: Coyote Creek in Uinta County, Wyoming; Elberta in Utah County, Utah; and Dry Lake in Clark County, Nevada; (3) restaging of three existing boost compressors, one at each of three existing compressor stations: Coyote Creek, Elberta and Dry Lake; (4) replacement of a boost compressor at Kern River's existing Fillmore compressor station in Millard County, Utah; and (5) the new Milford Compressor Station with a single unit 30,000 ISO-rated hp compressor to be constructed in Beaver County, Utah. The proposed facilities will add a net 78,000 ISO-rated hp to the Kern River system.

The estimated total cost of the proposed 2010 Expansion is $373 million, which will be financed with a combination of internally generated funds and new debt. Kern River proposes to charge incremental transportation rates and fuel reimbursement charges to Apex Expansion shippers.

Any questions regarding this application should be directed to Michael Loeffler, Senior Director, Certificates and External Affairs, Apex Expansion Project, Kern River Gas Transmission Company, MidAmerican Energy Pipeline Group, 1111 South 103rd Street, Omaha, Nebraska 68124, or (402) 398-7103.

On March 13, 2009, the Commission staff granted Kern River's request to utilize the National Environmental Policy Act (NEPA) Pre-Filling Process and assigned Docket Number PF09-7-000 to staff activities involving the Apex Expansion. Now, as of the filing Kern River's application on November 2, 2009, the NEPA Pre-Filling Process for this project has ended. From this time forward, Kern River's proceeding will be conducted in Docket No. CP10-14-000, as noted in the caption of this Notice.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify Federal and state agencies of the timing for the completion of all necessary reviews, and the subsequent need to complete all Federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy regulatory Commission, 888 First Street, NE., Washington, DC 20426.

Comment Date: December 7, 2009.

Kimberly D. Bose,
Secretary.

[FR Doc. E9-28017 Filed 11-20-09; 8:45 am]

BILLING CODE 6717-01-P